INTERNATIONAL TRADE COMMISSION

[Investigation No. 731-TA-1010 (Preliminary)]

Lawn and Garden Steel Fence Posts From China

Determinations

On the basis of the record ¹ developed in the subject investigation, the United States International Trade Commission determines,² pursuant to section 733(a) of the Tariff Act of 1930 (19 U.S.C. § 1673b(a)) (the Act), that there is a reasonable indication that an industry in the United States is materially injured by reason of imports from China of U-shaped or hat-shaped lawn and garden fence posts made of steel and/or any other metal, weighing one pound or less per foot, provided for in subheading 7326.90.85 of the Harmonized Tariff Schedule of the United States, that are alleged to be sold in the United States at less than fair value (LTFV).

¹ The record is defined in sec. 207.2(f) of the Commission's Rules of Practice and Procedure (19 CFR § 207.2(f)).

² Vice Chairman Hillman and Commissioner Miller dissenting.

On the basis of the record developed in the subject investigation, the Commission also determines,³ pursuant to section 733(a) of the Act, that there is no reasonable indication that an industry in the United States is materially injured or threatened with material injury, or that the establishment of an industry in the United States is materially retarded, by reason of imports from China of other fence posts made of steel and/or other metal including tee, farm, and sign posts weighing one pound or less per foot, provided for in subheading 7326.90.85 of the Harmonized Tariff Schedule of the United States, that are alleged to be sold in the United States at LTFV.

³ Commissioner Bragg dissenting.

Commencement of Final Phase Investigation

Pursuant to section 207.18 of the Commission's rules, the Commission also gives notice of the commencement of the final phase of its investigation. The Commission will issue a final phase notice of scheduling, which will be published in the Federal Register as provided in section 207.21 of the Commission's rules, upon notice from the Department of Commerce of an affirmative preliminary determination in the investigation under section 733(b) of the Act, or, if the preliminary determination is negative, upon notice of an affirmative final determination in that investigation under section 735(a) of the Act. Parties that filed entries of appearance in the preliminary phase of the investigation need not enter a separate appearance for the final phase of the investigation. Industrial users, and, if the merchandise under investigation is sold at the retail level, representative consumer organizations have the right to appear as parties in Commission antidumping and countervailing duty investigations. The Secretary will prepare a public service list containing the names and addresses of all persons, or their representatives, who are parties to the investigation.

Background

On May 1, 2002, a petition was filed with the Commission and Commerce by Steel City Corporation, Youngstown, OH, alleging that an industry in the United States is materially injured or threatened with material injury by reason of LTFV imports of lawn and garden steel fence posts from China. Accordingly, effective May 1, 2002, the Commission instituted antidumping duty investigation No. 731-TA-1010 (Preliminary).

Notice of the institution of the Commission's investigation and of a public conference to be held in connection therewith was given by posting copies of the notice in the Office of the Secretary, U.S. International Trade Commission, Washington, DC, and by publishing the notice in the Federal Register of May 8 (67 FR 30963, May 8, 2002). The conference was held in Washington, DC, on May 22, 2002, and all persons who requested the opportunity were permitted to appear in person or by counsel.

The Commission transmitted its determination in this investigation to the Secretary of Commerce on June 17, 2002. The views of the Commission are contained in USITC Publication 3521 (June 2002), entitled Lawn and Garden Steel Fence Post from China: Investigation No. 731-TA-1010 (Preliminary).

By order of the Commission.
Issued: June 18, 2002.
Marilyn R. Abbott,
Secretary.

[FR Doc. 02-15862 Filed 6-21-02; 8:45 am]

BILLING CODE 7020-02-P